DEPARTMENT OF COMMERCE

International Trade Administration

[A-201-838]

Seamless Refined Copper Pipe and Tube From Mexico: Final Results of Antidumping Duty Administrative Review; 2011-2012

AGENCY: Enforcement and Compliance, International Trade Administration, Department of Commerce.

SUMMARY: On December 24, 2013, the Department of Commerce (the Department) published in the Federal Register the Preliminary Results of the 2011-2012 administrative review of the antidumping duty order on seamless refined copper tube and pipe from Mexico.¹ This review covers two producers/exporters of the subject merchandise, GD Affiliates S. de R.L. de C.V. (Golden Dragon) ² and Nacional de Cobre, S.A. de C.V. (Nacobre). We gave interested parties an opportunity to comment on the Preliminary Results and, based upon our analysis of the comments, we continue to find that sales of subject merchandise have been made at prices below normal value.

¹ See Seamless Refined Copper Pipe and Tube From Mexico: Preliminary Results of Antidumping Duty Administrative Review; 2011-2012, 78 FR 77651 (December 24, 2013) (Preliminary Results), and accompanying Preliminary Decision Memorandum.

² The Department has previously treated GD Affiliates S. de R.L. de C.V. as part of a single entity including: (1) GD Copper Cooperatief U.A.; (2) Hong Kong GD Trading Co. Ltd.; (3) Golden Dragon Holding (Hong Kong) International, Ltd.; (4) GD Copper U.S.A. Inc.; (5) GD Affiliates Servicios S. de R.L. de C.V.; and (6) GD Affiliates S. de R.L. de C.V., which is collectively referred to as Golden Dragon. See, e.g., Seamless Refined Copper Pipe and Tube From Mexico: Final Results of Antidumping Duty New Shipper Review, 77 FR 59178 (Sept. 26, 2012), and accompanying Issues and Decision Memorandum.

DATES: Effective Date: June 30, 2014.

FOR FURTHER INFORMATION CONTACT: Elizabeth Eastwood or Dennis McClure, AD/CVD Operations, Office II, Enforcement and Compliance, International Trade Administration, U.S. Department of Commerce, 14th Street and Constitution Avenue NW., Washington, DC 20230; telephone: (202) 482-3874 or (202) 482-5973, respectively.

SUPPLEMENTARY INFORMATION:

Background

On December 24, 2013, the Department published in the Federal Register the Preliminary Results of the 2011-2012 administrative review of the antidumping duty order on seamless refined copper pipe and tube from Mexico. We invited parties to comment on the Preliminary Results. We received case briefs from Golden Dragon, Nacobre, and the petitioners ³ on January 23, 2014. On January 28, 2014, we also received comments from Nacobre related to U.S. Customs and Border Protection (CBP) information placed on the record in January 2014.⁴ On February 3, 2014, we received rebuttal briefs from Golden Dragon and the petitioners. A public hearing was held on February 20, 2014, to discuss issues raised in the briefs. On April 9, 2014, we postponed the final results by 30 days; ⁵ on May 15, 2014, we postponed the final results by an additional 30 days.⁶

³ The petitioners are Cerro Flow Products, LLC, Wieland Copper Products, LLC, Mueller Copper Tube Products, Inc. and Mueller Copper Tube Company, Inc.

⁴ See the January 17, 2014, memorandum to the File from Elizabeth Eastwood, Senior Analyst, entitled “Information from U.S. Customs and Border Protection (CBP) Regarding U.S. Sale of Nacional de Cobre, S.A. de C.V. (Nacobre).”

⁵ See the April 9, 2014, memorandum to Christian Marsh, Deputy Assistant Secretary for Antidumping and Countervailing Duty Operations from James Maeder, Director, entitled “Seamless Refined Copper Pipe and Tube from Mexico: Extension of Deadline for Final Results of Antidumping Duty Administrative Review; 2011-2012.”

⁶ See the May 15, 2014, memorandum to Christian Marsh, Deputy Assistant Secretary for Antidumping and Countervailing Duty Operations from James Maeder, Director, entitled “Seamless Refined Copper Pipe and Tube from Mexico: Extension of Deadline for Final Results of Antidumping Duty Administrative Review; 2011-2012.”

Scope of the Order

The merchandise subject to the order ⁷ is seamless refined copper pipe and tube. The product is currently classified under the Harmonized Tariff Schedule of the United States (HTSUS) subheadings 7407.10.1500, 7419.99.5050, 8415.90.8065, and 8415.90.8085. Although the HTSUS numbers are provided for convenience and customs purposes, the written product description, available in the Issues and Decision Memorandum,⁸ remains dispositive.

⁷ See Seamless Refined Copper Pipe and Tube From Mexico and the People's Republic of China: Antidumping Duty Orders and Amended Final Determination of Sales at Less Than Fair Value From Mexico, 75 FR 71070 (November 22, 2010) (Amended Final and Order).

⁸ See memorandum to Paul Piquado, Assistant Secretary for Enforcement and Compliance, from Christian Marsh, Deputy Assistant Secretary for Antidumping and Countervailing Duty Operations, entitled “Issues and Decision Memorandum for the Final Results of the Antidumping Duty Administrative Review of Seamless Refined Copper Pipe and Tube from Mexico; 2011-2012,” which is hereby adopted by this notice (Issues and Decision Memorandum).

Analysis of Comments Received

All issues raised in the case and rebuttal briefs by parties in this administrative review are listed in the Appendix to this notice and addressed in the Issues and Decision Memorandum. Parties can find a complete discussion of all issues raised in this review and the corresponding recommendations in this public memorandum, which is on file electronically via Enforcement and Compliance's Antidumping and Countervailing Duty Centralized Electronic Service System (IA ACCESS). IA ACCESS is available to registered users at http://iaaccess.trade.gov,; the Issues and Decision Memorandum is also available to all parties in the Central Records Unit, room 7046, of the main Department of Commerce building.

In addition, a complete version of the Issues and Decision Memorandum can be accessed directly on the Web at http://enforcement.trade.gov/frn/. The paper copy and electronic version of the Issues and Decision Memorandum are identical in content.

Changes Since the Preliminary Results

We revised our preliminary margin calculation for Nacobre to incorporate certain changes to Nacobre's assessment rate and cost of production, as noted in Comments 7 and 8, respectively, of the accompanying Issues and Decision Memorandum. We made no changes to the calculation of Golden Dragon's weighted-average dumping margin in these final results.

Period of Review

The period of review is November 1, 2011, through October 31, 2012.

Duty Absorption

In the Preliminary Results, we found that antidumping duties have been absorbed by Golden Dragon and Nacobre on all U.S. sales made through their affiliated importers of record.⁹ We have received no further information regarding this issue for the final results. Therefore, for the final results, we continue to find that antidumping duties have been absorbed by Golden Dragon and Nacobre on all U.S. sales made through their affiliated importers of record.

⁹ See Preliminary Results and accompanying Preliminary Decision Memorandum at 17.

Final Results of the Review
Producer or exporter | Weighted- average dumping margin (percent)
GD Affiliates S. de R.L. de C.V | 2.26
Nacional de Cobre, S.A. de C.V | 0.58

Disclosure

We will disclose the calculations performed within five days of the date of publication of this notice to parties in this proceeding in accordance with 19 CFR 351.224(b).

Assessment Rate

Pursuant to section 751(a)(2)(C) of the Tariff Act of 1930, as amended (the Act), and 19 CFR 351.212(b)(1), the Department has determined, and CBP shall assess, antidumping duties on all appropriate entries of subject merchandise and deposits of estimated duties, where applicable, in accordance with the final results of this review. The Department intends to issue appropriate assessment instructions directly to CBP 41 days after publication of the final results of this administrative review pursuant to 19 CFR 356.8(a).

For Golden Dragon and Nacobre, the Department will calculate importer-specific assessment rates equal to the ratio of the total amount of dumping calculated for the importer's examined sales and the total entered value of those sales. Where an importer-specific assessment rate is zero or de minimis (i.e., less than 0.5 percent), the Department will instruct CBP to liquidate these entries without regard to antidumping duties pursuant to 19 CFR 351.106(c)(2).

Cash Deposit Requirements

The following deposit requirements will be effective upon publication of the notice of these final results for all shipments of seamless refined copper pipe and tube from Mexico entered, or withdrawn from warehouse, for consumption on or after the publication date as provided by section 751(a)(2) of the Act: (1) The cash deposit rates for Golden Dragon and Nacobre will be equal to the weighted-average dumping margins established in the final results of this administrative review; (2) for merchandise exported by manufacturers or exporters not covered in this review but covered in a completed prior segment of the proceeding, the cash deposit rate will continue to be the company-specific rate published for the most recently completed segment; (3) if the exporter is not a firm covered in this review, a prior review, or the original investigation but the manufacturer is, the cash deposit rate will be the rate established for the most recently completed segment for the manufacturer of the merchandise; (4) the cash deposit rate for all other manufacturers or exporters will continue to be 26.03 percent, the all-others rate established in the Amended Final and Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We are issuing and publishing this notice in accordance with sections 751(a)(1) and 777(i) of the Act and 19 CFR 351.213(h).

Dated: June 23, 2014.
Paul Piquado,
Assistant Secretary for Enforcement and Compliance.

Appendix—Issues and Decision Memorandum

Summary

Background

Margin Calculations

Scope of the Order

Discussion of the Issues

Comment 1: Legal Authority to Consider an Alternative Comparison Method in an Administrative Review

Comment 2: Withdrawal of the Regulatory Provisions Governing Targeted Dumping in Less-Than-Fair-Value Investigations

Comment 3: Differential Pricing Analysis: Establishment of Thresholds under the Administrative Procedure Act

Comment 4: Differential Pricing Analysis: Identification of a Pattern of Prices that Differs Significantly and a Meaningful Difference in the Results

Comment 5: Differential Pricing Analysis: Prices Set by Contractual Formula

Comment 6: Adverse Facts Available for Golden Dragon

Comment 7: Level of Trade for Golden Dragon

Comment 8: CBP Documentation for Nacobre

Comment 9: Nacobre's Raw Material Cost Adjustment Recommendation

[FR Doc. 2014-15280 Filed 6-27-14; 8:45 am]

BILLING CODE 3510-DS-P